DEFENSE NUCLEAR FACILITIES SAFETY BOARD

Extension of Hearing Record Closure Date

AGENCY: Defense Nuclear Facilities Safety Board.

ACTION: Extension of hearing record closure date.

SUMMARY: The Defense Nuclear Facilities Safety Board (Board) convened a public meeting and hearing on December 10, 2013, as noticed in the Federal Register on August 13, 2013 (78 FR 49262), as amended, November 12, 2013 (78 FR 67344). The hearing concerned safety-related matters at defense nuclear facilities at the Y-12 National Security Complex. The Board stated at the conclusion of the hearing that the hearing record would remain open until January 10, 2014.

Extension of Time: The Board now extends the period of time for which the hearing record will remain open to February 10, 2014, to further accommodate submission of an answer to a question taken for the record during the course of the public hearing.

Contact Person For Further Information: Mark Welch, Acting Deputy General Manager, Defense Nuclear Facilities Safety Board, 625 Indiana Avenue NW., Suite 700, Washington, DC 20004-2901, (800) 788-4016. This is a toll-free number.

Dated: January 8, 2014.
Peter S. Winokur,
Chairman.

[FR Doc. 2014-00458 Filed 1-13-14; 8:45 am]

BILLING CODE 3670-01-P